DEPARTMENT OF COMMERCE

National Oceanic and Atmospheric Administration

RIN 0648-XY008

Fisheries of the Exclusive Economic Zone off Alaska; Application for an Exempted Fishing Permit

AGENCY: National Marine Fisheries Service (NMFS), National Oceanic and Atmospheric Administration (NOAA), Commerce.

ACTION: Notice; receipt of application for exempted fishing permit.

SUMMARY: This notice announces receipt of an exempted fishing permit (EFP) application from United Catcher Boats for pollock catcher vessels (CVs) using pelagic trawl gear in the eastern Bering Sea (BS) and Gulf of Alaska (GOA) to evaluate the efficacy of electronic monitoring (EM) systems in lieu of observers for at-sea monitoring of vessels for compliance with fishery management regulations. If granted, this EFP would allow approximately 49 pollock CVs and nine tender vessels to participate in the proposed EFP to evaluate whether the use of EM systems is a cost and operationally effective means for monitoring vessel compliance with catch and discard requirements. If issued, the EFP would be in effect during 2020 and 2021 for the pollock fishing seasons (both A and B seasons in the BS and A/B and C/D seasons in the GOA). Results from this proposed EFP are intended to inform future North Pacific Fishery Management Council (Council) analyses in consideration of a regulatory program to implement EM systems aboard pollock CVs using pelagic trawl gear in the BS and GOA as a compliance monitoring tool in these fisheries. This proposed project has the potential to promote the objectives of the Magnuson-Stevens Fishery Conservation and Management Act (Magnuson-Stevens Act).

DATES: Comments on this EFP application must be submitted to NMFS on or before October 9, 2019. The Council will consider the application at its meeting from September 30, 2019, through October 9, 2019, in Homer, AK.

ADDRESSES: The Council meeting will be held at the Land's End Resort, 4786 Homer Spit Rd, Homer, AK 99603. The agenda for the Council meeting is available at https://www.npfmc.org. In addition to submitting comments at the Council meeting, you may submit comments on this document, identified by NOAA-NMFS-2019-0100, by any of the following methods:

• Federal e-Rulemaking Portal: Go to www.regulations.gov/#!docketDetail;D=NOAA-NMFS-2019-0100, click the “Comment Now!” icon, complete the required fields, and enter or attach your comments.

• Mail: Submit written comments to Glenn Merrill, Assistant Regional Administrator, Sustainable Fisheries Division, Alaska Region NMFS, Attn: Records Office. Mail comments to P.O. Box 21668, Juneau, AK 99802-1668.

Instructions: Comments sent by any other method, to any other address or individual, or received after the end of the comment period, may not be considered. All comments received are a part of the public record and will generally be posted for public viewing on www.regulations.gov without change. All personal identifying information (e.g., name, address) submitted voluntarily by the sender will be publicly accessible. NMFS will accept anonymous comments (enter “N/A” in the required fields if you wish to remain anonymous).

Electronic copies of the EFP application and the basis for a categorical exclusion under the National Environmental Policy Act prepared for this action are available from www.regulations.gov.

FOR FURTHER INFORMATION CONTACT: Bridget Mansfield, 907-586-7228.

SUPPLEMENTARY INFORMATION: NMFS manages the groundfish fisheries in the exclusive economic zone of the Bering Sea and Aleutian Islands (BSAI) and GOA under the Fishery Management Plan (FMP) for Groundfish of the BSAI Management Area (BSAI FMP) and the FMP for Groundfish of the GOA (GOA FMP), respectively. The Council prepared the BSAI and GOA FMPs under the authority of the Magnuson-Stevens Act, 16 U.S.C. 1801 et seq. Regulations governing the BSAI and GOA groundfish fisheries appear at 50 CFR parts 600 and 679. The FMPs and the EFP-implementing regulations at § 600.745(b) and § 679.6 allow the NMFS Regional Administrator to authorize, for limited experimental purposes, fishing that would otherwise be prohibited. Procedures for issuing EFPs are contained in the implementing regulations.

Background

The Council has been actively pursuing the development and implementation of EM technology in lieu of onboard observers for at-sea fishery monitoring for several years. In 2017, the final rule implementing Amendments 114 to the BSAI FMP and 104 to the GOA FMP established (1) a process for owners or operators of vessels using nontrawl gear, such as hook-and-line and pots, to request to participate in the EM selection pool and (2) the requirements for vessel owners or operators while in the EM selection pool (82 FR 36991, August 8, 2017). That program has demonstrated the ability of EM systems to improve cost efficiencies and provide more precise accounting for CVs that deliver to both shoreside processing facilities and to tender vessels. The Council is interested in attaining more precise estimates of bycatch in trawl fisheries. To achieve that, the Council's Trawl EM Committee, with approval from the Council, developed a Cooperative Research Plan for moving toward a regulated EM program for pollock CVs in the North Pacific. The Council's long-term vision of using EM more widely in the management of the BS and GOA pollock fisheries does not align with the current fishery regulations, thereby necessitating the need for an EFP to evaluate operational details of such a management program. The proposed EFP was developed specifically to evaluate the potential use of EM as a monitoring tool for compliance with fishery management regulations in the pollock pelagic trawl CV fleet. The expected results of the proposed EFP would provide valuable operational and cost information in evaluating their efficacy for the future implementation of such a program.

Pollock Fishery Sectors That Would Participate in the EFP

Three sectors of pollock catcher vessels, the BS shoreside, GOA shoreside, and Western GOA tendering sectors, would participate in the proposed EFP. These groups are distinguished by area of operation, fishery management program, existing monitoring requirements, and delivery disposition.

BS Shoreside Sector: Pollock CVs using pelagic trawl gear in the BS operate as a cooperative catch share program under the American Fisheries Act (AFA). The AFA is a limited access program for BS pollock implemented by statute in 1998 (Public Law 105-277, 16 U.S.C. 1851 statutory note). Under provisions of the AFA individual vessel and cooperative allocations of both pollock and Chinook salmon can be transferred among fishery participants. CV operation types in the BS pollock fishery include CVs that deliver sorted catch to a shoreside processor or deliver unsorted codends to a mothership. CVs delivering unsorted codends to a mothership are exempt from observer coverage requirements and are not part of this EFP. The BS shoreside pollock fleet is comprised of approximately 81 CVs. CVs operating in this sector are in the full coverage category under the Observer Program, and are required to carry an observer on 100 percent of fishing trips. Of these CVs, approximately 24 also operate in the pollock fishery in the GOA. The BS pollock TAC is divided into two seasons: the A season (January 20 to June 10), with 45 percent of the sector's allocation, and the B season (June 10 to November 1), with 55 percent of the sector's allocation. There is no vessel trip limit in the BS and discards are considered to be limited.

GOA Shoreside Sector: Pollock CVs using pelagic trawl gear in the GOA deliver catch to shoreside processors, and are managed on an area-wide basis, rather than an individual vessel basis, within a limited access, derby-style fishery. CVs participating in the pollock fishery in the GOA are in the partial coverage category under the Observer Program, and observers are randomly deployed on selected trips at a specified coverage rate. Since 2013, the observer coverage rate for the GOA pollock fleet has ranged from 20-28 percent. The shoreside pollock fleet in the GOA is comprised of approximately 85 CVs, 30 of which operate in both the Central (NMFS Areas 620 and 630) and Western Gulf (NMFS Area 610). Currently, the Western and Central GOA pollock TAC is divided into four seasons: A season (January 20 to March 10); B season (March 10 to May 31); C season (August 25 to October 1); and D season (October 1 to November 1) with 25 percent of the TAC allocated to each of the four seasons. Pollock CVs in the GOA are subject to a 300,000-lb trip limit and any pollock harvested in excess of the trip limit must be discarded at sea.

Western GOA Tendering Sector: A portion of the pollock CV trawl fleet in the Western GOA (WGOA) utilizes tender vessels to facilitate deliveries to shoreside processors. A tender vessel means a vessel that is used to transport unprocessed fish or shellfish received from another vessel to an associated processor. Therefore, tender vessels receive unprocessed and unsorted catch from a CV and transport that catch to a shoreside processor for processing. This operation reduces delivery time for CVs and reduces cost associated with traveling between the fishing grounds and port. One tender vessel usually serves multiple CVs. For pollock in the GOA, there is a tender trip limit of 272 mt (600,000 lb) and tendering is prohibited east of 157°00' W longitude. Tendering occurs primarily in Area 610, where the pollock fishery is prosecuted mainly by smaller CVs (<60 feet), which benefit greatly from the efficiency offered by tenders. The tender vessels in this area primarily deliver to Sand Point and King Cove. To a lesser degree, tendering also occurs in the western portion of Area 620 for transport to Sand Point, King Cove, or Akutan and occasionally to Dutch Harbor.

Recordkeeping and Reporting

Recordkeeping and reporting regulations are found at 50 CFR 679.5. These regulations outline landed catch and at-sea discard reporting requirements for shoreside processors, tender vessels, and CVs using trawl gear as well as requirements for vessel logbooks (paper or electronic). Under the current management program, a vessel's catch (landed harvest) is determined by the NMFS Alaska Regional Office using data collected through fish tickets (landing reports) generated at the shoreside plant or tender where the delivery is made (eLandings reports for CV deliveries to plants and tLandings reports for vessel deliveries to tenders). At-sea discards for CVs are estimated using observer data. Trawl CVs less than 60 feet are exempt from logbook requirements.

Retention and Discard Requirements of the BS and GOA Pollock Pelagic Trawl CV Fisheries

Pollock CVs using pelagic trawl gear operating in the BS and GOA represent a substantial portion of Alaska's Federal fisheries, comprising over 100 CVs (ranging in length from 58 feet to 200 feet, with BS CVs generally being larger with greater hold capacity than GOA CVs). Improved retention/improved utilization (IRIU) regulations require that all pollock be retained when open to directed fishing and up to the maximum retainable amount (MRA) when closed to directed fishing, except in the GOA when the CV pollock trip limit of 300,000 lb (600,000 lb for tender vessels) is exceeded. Incidental catches of other groundfish species (e.g., rockfish) may be retained (or discarded if the operator chooses) by a vessel up to an MRA, which is species-specific and outlined in regulation. Incidental catches in excess of a specified MRA must be discarded. Where they do occur, the majority of discards in the BS and GOA pollock fisheries are a result of regulatory requirements related to incidental groundfish species MRAs, prohibited species catch (PSC), or the GOA pollock trip limit. MRAs themselves do not require a vessel to retain a species or lower discard rates, but instead lead to a discard requirement when incidental catches of species subject to MRAs exceed the allowable amount at a given time. With the exception of salmon, BS and GOA trawl CVs are required to discard all prohibited species, with minimal harm to these species. Prohibited species are identified as such, because they are the target of other fully utilized domestic fisheries. Prohibited species include Pacific halibut, salmon, crab, and Pacific herring caught incidentally during their pollock operations. For other incidental groundfish species, when the total harvest amount (from all directed fishing and incidental catch) approaches or reaches the annual TAC or allocation of a TAC for that species, regulations at 50 CFR 679.20(d)(2) prohibit retention of that species when they are placed on prohibited species status (for the fisheries with incidental take) and any catch must be discarded at sea. This is done to avoid overfishing. Because CV operations make it difficult to sort out and discard every single prohibited species at sea, these species will occasionally end up in a vessel's fish hold and be delivered to a shoreside processor. For pollock CVs using pelagic trawl gear, all retention and discard requirements are currently monitored and recorded by observers; however, the BS and GOA have different onboard observer coverage requirements. These requirements can be found at subpart E of 50 CFR part 679.

National Fish and Wildlife Funded EM Pilot Projects

Beginning in 2019, two projects funded through the National Fish and Wildlife Foundation (NFWF), initiated a Pilot Study of deploying EM aboard vessels in the pollock pelagic trawl fisheries that simultaneously carried observers. Vessels participating in the project include BS-only and GOA-only CVs delivering to shoreside processors, CVs that fish in both the BS and GOA and deliver shoreside, WGOA CVs delivering to tenders and shoreside processors, and WGOA tender vessels. The work from these two projects has allowed for initial feasibility testing of EM systems aboard pollock CVs using pelagic trawl gear and tender vessels in the BS and GOA. The projects provide the opportunity to collect baseline EM data for comparison of discard estimates from onboard observers versus EM systems. The applicants for the proposed EFP would compare the baseline EM data results from the two NFWF projects to data collected under this proposed EFP, with emphasis on the accuracy of EM capturing discard events and identifying discarded species.

Preliminary video review data for the BS and GOA shoreside component indicate that discard estimates (all species combined) generated from EM systems are higher when compared to discard estimates from both vessel observers and vessel logbooks (the WGOA tendering component has not received enough video data to draw a preliminary conclusion about discard estimate comparisons to logbooks). The NFWF projects have also highlighted that one of the primary issues facing the use of EM in the BS and GOA shoreside sector is the inability to estimate discard weights by species.

Exempted Fishing Permit

On July 26, 2019, United Catcher Boats submitted an application for an EFP to evaluate the use of EM systems in the BS and GOA on pollock CVs using pelagic trawl gear. The application includes a proposal to assess the efficacy of EM for monitoring compliance with a full salmon PSC retention requirement and of identifying key decisions related to successfully making EM operational for compliance monitoring. The objective of the EFP is to determine whether utilizing camera systems in lieu of onboard observers proves both cost effective and operationally effective for monitoring of catch and discards. To this end, the proposed EFP seeks to achieve the following specific objectives, derived from the Council's EM Cooperative Research Plan:

• Demonstrate that maximized retention can be achieved in pollock trawl CV fisheries.

• Demonstrate that at-sea observers can be replaced with observers at shoreside processing plants such that data needs and data streams for effective fisheries management are maintained.

• Demonstrate that EM camera systems can adequately capture discard events and that video data can be used to verify vessel logbook discard information for compliance monitoring purposes.

• Improve salmon bycatch accounting for CVs, especially for those delivering to tender vessels, through the use of EM camera systems that will enable shoreside observers to collect salmon bycatch census data.

Results from this EFP are intended to inform the Council's Trawl EM Committee and future Council analyses in consideration of implementing EM aboard pelagic pollock CVs in the BS and GOA as a compliance monitoring tool in these fisheries.

Proposed Exempted Fishing Operations

Study Area, Timing, and Participants

The proposed EFP would apply to the BS and the GOA (NMFS areas 610, 620, 630 and 640). The proposed EFP would be issued for two years, covering the full 2020 and 2021 pollock fishing years (both A and B seasons in the BS and A/B and C/D seasons in the GOA). In the BS, all pelagic pollock fishing under all seasons by participating vessels would be considered EFP fishing (i.e., no specific trips would be identified as EFP trips and vessels would not need to notify NMFS that they are beginning or ending an EFP trip). For the GOA, vessels would select EFP and non-EFP trips through the Observer Deploy and Declare System (ODDS); EFP trips would only be allowed for Federal pelagic pollock trips.

For 2020, 49 pollock CVs (28 BS/GOA component and 21 WGOA component) and nine tender vessels would be expected to participate on a voluntary basis in the proposed EFP. These numbers are subject to change and would be confirmed prior to final submission of the EFP. An expansion of participating vessels would be considered for 2021 based upon information learned during the first year of the proposed EFP. Catcher/processors and CVs that deliver to motherships are not eligible to participate.

Observer Coverage

For the BS and GOA shoreside component of the proposed EFP, specified pollock CVs in the BS would be exempted from the 100 percent requirement for at-sea observer coverage (full coverage category). For any non-pollock directed fishing trips (e.g., Pacific cod), these BS CVs would either log trips in ODDS for the partial coverage sector or opt into the voluntary 100 percent observer coverage system. In the GOA, CVs fishing under the EFP would be placed in a zero selection pool under ODDS established for partial coverage fisheries, such that these vessels will continue to pay the 1.25 percent observer coverage fee, but would not be selected for observer coverage. These two approaches would apply as necessary to those CVs that operate in both areas, depending upon which area they are fishing in. Under ODDS, these vessels would be able to log an EFP trip (for pollock) or a non-EFP trip (for other target fisheries) and would be able to log up to three trips (any combination of EFP or non-EFP), as well as cancel trips when necessary. While these vessels would be allowed to simultaneously carry both pelagic and non-pelagic trawl gear, they would not be allowed to deploy or use the non-pelagic trawl gear for fishing trips logged as part of the EFP. All participating BS and GOA CVs would be exempted from the area-specific discard requirements while conducting fishing under the EFP.

For the WGOA tendering sector, CVs directed fishing for pollock under the EFP would be placed in a zero selection pool under the ODDS system established for partial coverage fisheries, such that these CVs would continue to pay the 1.25 percent observer coverage fee but would not be selected for observer coverage. Under ODDS, these CVs would log an EFP trip (for pollock) or a non-EFP trip (for other target fisheries) and would be able to log up to three trips (any combination of EFP or non-EFP) as well as cancel trips when necessary. While these vessels would be allowed to simultaneously carry both pelagic and non-pelagic trawl gear, they would not be allowed to deploy or use the non-pelagic trawl gear for fishing trips logged as part of the EFP. All participating CVs in the WGOA would be exempted from the area-specific discard requirements while fishing under the EFP. Tender deliveries received from CVs with EM under the proposed EFP would not be mixed Pacific cod and pollock catch (i.e., the EFP tender vessel must receive only deliveries from CVs directed fishing for pollock using pelagic trawl gear) and all shoreside deliveries of EFP catch made by participating tender vessels would be delivered to shoreside plants with an observer.

Tender Provisions

In order to accurately track catch delivered by a tender and to estimate salmon bycatch in the tender sector, all participants utilizing tenders would be required to adhere to the following provisions:

1. If an EM CV selects an EFP trip in ODDS, they must deliver to an EM EFP tender.

2. EFP tenders that accept EFP catch cannot also accept non-EFP catch during the same trip, until EFP catch has been offloaded shoreside.

3. Tenders cannot mix EFP catch from different NMFS reporting areas in the same trip.

4. EFP tenders (and EFP shoreside CVs) must completely offload EFP catch at a single processing plant (no partial offloads).

Electronic Monitoring Systems

All participating vessels would carry an EM system (cameras and associated sensors) for compliance monitoring purposes and would be required to comply with catch handling and species retention requirements, reporting requirements, and other conditions of the permit as identified. In order to test the feasibility of employing EM for compliance monitoring, full camera and recording systems would be deployed upon participating CVs and tender vessels. EM is intended to accurately capture discard events (i.e., whether a discard has occurred), the amount of discard (i.e., estimated volume in weight), and any rare events (e.g., large animals, gear failure) that may occur. Camera placement would be customized for each vessel to ensure recording of such discard. The EM camera systems would be strategically placed at key locations aboard a vessel to ensure all catch can be seen within camera view from the time the catch reaches the vessel until it is either put into the vessel's hold, transported aboard a tender vessel, returned to the water, or offloaded to a shoreside processing facility. Hydraulic sensor pressures will be used to turn the camera video recording on and off in conjunction with fishing activity. The EM system would be turned on as soon as the vessel unties from the dock, but video recording would not be required to be initiated while the vessel is initially transiting to the fishing grounds. Once the first set is initiated the video recording would be initiated and remain on throughout the entirety of the offload for CVs delivering to tenders and shoreside processors in the WGOA component. For CVs delivering to shoreside processors in the BS and GOA component, video recording would also be initiated with the first set and remain on for the entire trip until two hours after the vessel enters the pre-defined port area.

Catch Accounting

Under the proposed EFP, EM would not be directly utilized for catch accounting purposes; accounting of a vessel's catch would be done via fish tickets (eLandings reports), and a census of the Chinook salmon PSC would be completed at the shoreside processing facility via a shoreside plant observer. Fish tickets and observer data from all EFP fishing would be incorporated into NMFS's catch accounting system.

Vessel Monitoring Plans (VMPs)

A vessel-specific VMP would be developed for each vessel participating in the EFP, outlining EFP requirements and vessel operator responsibilities, documents the location and purpose of all installed EM camera system components, and describes specific catch handling and discard locations. Camera function and logbook requirements would also be detailed. Malfunction Protocols would be included detailing the specific steps a vessel must take if an equipment malfunction were to occur at the dock or at sea. These Malfunction Protocols would also designate how long a vessel will be expected to remain in port to facilitate a repair that needs to occur if a repair cannot be completed within the designated time frame.

Vessel Participation and Responsibilities

Participating vessels would be required under the provisions of the EFP to agree to requirements of the EFP prior to participation and to maintain regular contact and communication with the EFP permit holders, EM service providers, EM reviewers, and NMFS staff as necessary. Participating vessels would be required to have a functioning EM system to participate in the proposed EFP and would be required to adhere to the VMP. For pre-trip preparation, participating vessels would work with the EM provider to develop a written plan that includes detailed information on the placement of all cameras on the vessel and the criteria the EM system must meet per its VMP and pre-season function test (required test to demonstrate an EM system is collecting proper data). The vessel would be responsible for completing a system function test and ensuring all critical systems are operational before leaving port. The vessel would be required to immediately report EM System issues and critical malfunctions to the service provider. Service providers would work with the vessel to resolve any critical issues while the vessel is at sea, and if the issue could not be resolved at sea, the service provider would work directly with the vessel to schedule service in port. All service issues and communications would be reported to the EFP permit holders. NMFS and the EFP applicants would work to develop specific provisions detailing circumstances under which cessation of pollock fishing under this EFP would be required. This would be included as a component of each participating vessel's VMP. Any egregious violations of the proposed EFP, as specified under the terms of the EFP, would result in the permanent exclusion from participating in the EFP by the vessel in question.

VMPs would include detailed requirements for post-trip EM data transmission and review. Upon the completion and delivery of EFP pollock fishing trips, vessel captains would mail video hard drives and provide copies of their logbook pages to the designated video reviewer. After review, fisheries discard data would be transmitted through the AKFIN database to the NMFS Alaska Regional Office through a modified data channel stream that is currently being utilized for the Alaska fixed gear EM fishery. Transmission of this fisheries discard data would allow NMFS to determine discrepancies between vessel reported discard estimates and EM reviewer discard estimates. Video data collected under the proposed EFP would be treated akin to observer data such that video data is reviewed and stored to maintain its confidentiality. After video and logbook data entry and review, summary reports will be generated providing detailed information on industry self-reported discard data (via logbooks) and review of EM haul data to verify compliance with salmon record keeping and reporting regulations.

Species Retention: This proposed EFP would exempt the participating vessels from discard requirements. Participating pollock trawl CVs in the BS and GOA will operate as a maximized retention fishery such that all catch, with few exceptions, must be delivered to a shoreside processor or a tender vessel. These exceptions may include:

• After catch is stowed below decks, the remaining pollock that is removed from the deck and fishing gear during cleaning and other similar vessel operations;

• Large individual marine organisms, such as fish species longer than six feet in length, provided the species and the reason for discarding are properly recorded in the vessel logbook; and

• Unavoidable discard of catch resulting from an event that is beyond the control of the vessel operator or crew, provided each species, the estimated quantity discarded of that species, the location of the tow, and reason for discarding are all recorded in the logbook.

Shoreside Plant Observations and Biological Samples

The applicant proposes replacing at-sea observers with EM systems, which would impact offloading monitoring operations at shoreside processing facilities. Under the proposed EFP, responsibilities associated with the collection of pollock biological samples, normally taken by at-sea observers, would shift to observers at the shoreside plant. The current pollock trawl CV observer sampling scheme for pollock biological data will continue to be followed by observers aboard BS and GOA pollock trawl CVs not participating in the proposed EFP.

Under the proposed EFP, all pollock deliveries in the BS from those CVs participating in the EFP would be made to shoreside processing facilities with an additional dedicated plant observer to ensure precise Chinook salmon PSC accounting and the collection of biological samples. This would ensure that individual vessel-level accountability for both Chinook salmon and pollock (as established under the cooperative management program) would be maintained. Shoreside pollock deliveries in the GOA from all CVs and tender vessels participating in the EFP would be sampled by a plant observer at a rate that results in 30 percent of the total EFP shoreside deliveries being monitored. This monitoring rate is higher than rates achieved for the GOA trawl partial observer coverage sector in the years 2013 through 2018, is equal to the desired monitoring rate for the EM fixed gear sector,¹ and will result in 100 percent salmon census at the trip level. For these shoreside deliveries, the processing facility would report the individual ODDS trip number (from the catcher or tender vessel's logbook) on the fish ticket generated for each participating EM CV delivery they receive (regardless of whether there is a plant observer present).

¹ Alaska Fisheries Science Center and Alaska Regional Office. 2019. North Pacific Observer Program 2018 Annual Report. AFSC Processed Rep. 2019-04, 148 p. Alaska Fish, Sci, Cent., NOAA, Natl. Mar. Fish. Serv., 7600 Sand Point Way NE, Seattle, WA 98115.

At the shoreside processing facilities with an additional plant observer per the EFP, a random sampling scheme would be developed and approved by NMFS for the collection of pollock biological samples (sex, length, weight, and otoliths). The EFP applicants propose that developing a statistically robust sampling scheme will allow for an entire vessel's catch to be sampled at the plant rather than only from the sampled vessel hauls. In this way, a straightforward random sampling scheme at the plant with easier access to the entire catch may allow for more statistically robust data.

Under the proposed EFP, Observer Program protocols for Chinook and chum salmon accounting and salmon biological data collection in both the BS and GOA would remain the same.² The monitoring of the offload for salmon is referred to as the offload salmon retention count. While the offload sampling duties are different for observers dependent on region² (BS or GOA), a full accounting of salmon is required in both areas. All non-salmon species catch information would be transmitted to NMFS via landing reports (fish tickets). Salmon retention data (census counts) collected by the shoreside plant observer would be used by NMFS for inseason management purposes.

² https://www.fisheries.noaa.gov/resource/document/north-pacific-observer-sampling-manual.

Exemptions

To meet the proposed EFP's objective, exemptions from regulations that currently prevent full or maximized retention of all catch and observer coverage requirements are necessary. The requested exemptions from the following regulations would allow participating vessels to achieve maximized retention for all harvested species (i.e., minimize discards to the greatest extent practicable):

• The regulations at 50 CFR 679.7(a)(16) and 679.20(e) that require a vessel to discard specific species after an MRA has been reached in the BS and GOA.

• The regulation at 50 CFR 679.7(b)(2) that requires a CV to discard pollock after the vessel has reached the 300,000 lb trip limit.

• The regulation at 50 CFR 679.20(d)(2) that prohibits retention of a species when they are placed on prohibited species status (for the fisheries with incidental catch) such that any catch must be discarded at sea.

• The regulation at 50 CFR 679.20(d)(1)(iii) that states a vessel may not retain incidental species in an amount that exceeds the MRA when directed fishing for that species is prohibited.

• The regulation at 50 CFR 679.21(a) that requires a vessel operator engaged in directed fishing for groundfish, including pelagic pollock, in the GOA or BSAI to minimize catch of prohibited species and, with the exception of salmon which has a 100 percent retention requirement, discard all PSC at sea with a minimum of injury (note that halibut would already be exempt due to the Prohibited Species Donation Program).

The requested exemption from the following regulation would allow the EFP to fully test the use of EM as a compliance monitoring tool for ensuring that no salmon are discarded at sea:

• The regulation at 50 CFR 679.51(a)(2) that requires a CV directed fishing for pollock in the BS to carry an observer at all times.

The EFP applicants requested an exemption from the following regulation in order to provide critical flexibility at the shoreside plant as the EFP applicants work to coordinate the necessary number of shoreside observers under all potential EM delivery scenarios, especially under the first year of the EFP.

• The regulation at 50 CFR 679.51(a)(2) (iii) that states the time required for an observer to complete sampling, data recording, and data communication duties may not exceed 12 consecutive hours in each 24-hour period.

Permit Conditions, Review, and Effects

If the proposed EFP is granted, required vessel information for participating CVs and tender vessels, as well as shoreside processors for the BS and GOA and WGOA components, would be provided to NMFS prior to the start of EFP fishing for 2020.

The EFP permit holders would be required to be submit to NMFS a written interim report prior to the first 2021 Council meeting and a final report prior to the first 2022 Council Meeting for review and consideration by the NMFS Alaska Region and the Council. These reports would address the four objectives of the EFP noted in the Exempted Fishing Permit section of this notice. The report would include an analysis of the metrics listed in the EFP application to evaluate the success of the EFP in achieving the objectives of the EFP and the Council's EM Cooperative Research Plan as a compliance monitoring tool in the BS and GOA pollock trawl CV fisheries. The evaluation of success in meeting those objectives using those metrics would include a seasonal component to provide a broader overview of the resulting behaviors of participating vessels. Data and information from the 2019 NFWF Pilot Study would be used as a baseline for comparison between EM and observer monitoring. These reports would inform future Council analyses in consideration of implementing EM aboard pelagic pollock CVs in the BS and GOA as a compliance monitoring tool in these fisheries.

The data collection conducted under this EFP is not expected to have a significant impact on the human environment as detailed in the categorical exclusion prepared for this action (see ADDRESSES). Fishing operations (area fished, effort, gear used) are not expected to change under the proposed EFP, and current fishing strategies and practices are expected to continue. Impacts to the biological and physical environment are not expected to change and will likely be similar to those realized under current fishing operations. No additional groundfish or PSC (salmon, halibut, crab, or herring) is being requested as part of this EFP application.

In accordance with § 679.6, NMFS has determined that the application warrants further consideration and has forwarded the application to the Council to initiate consultation. The Council is scheduled to consider the EFP application during its October 2019 meeting, which will be held at the Land's End Resort, Homer, AK. The EFP application will also be provided to the Council's Scientific and Statistical Committee for review at the October Council meeting. The applicant has been invited to appear in support of the application.

Public Comments

Interested persons may comment on the application at the October 2019 Council meeting during public testimony or until October 9, 2019. Information regarding the meeting is available at the Council's website at https://www.npfmc.org. Copies of the application and categorical exclusion are available for review from Regulations.gov (see ADDRESSES).

Comments also may be submitted directly to NMFS (see ADDRESSES) by the end of the comment period (see DATES).

Authority: 16 U.S.C. 1801 et seq.

Dated: September 18, 2019.
Jennifer M. Wallace,
Acting Director, Office of Sustainable Fisheries, National Marine Fisheries Service.

[FR Doc. 2019-20535 Filed 9-23-19; 8:45 am]

BILLING CODE 3510-22-P